CORPORATION FOR NATIONAL AND COMMUNITY SERVICE

Agency Information Collection Activities; Submission to the Office of Management and Budget for Review and Approval; Comment Request; Application Instructions for AmeriCorps State and National Competitive, New, and Continuation Grants

AGENCY: Corporation for National and Community Service.

ACTION: Notice of information collection; request for comment.

SUMMARY: The Corporation for National and Community Service, operating as AmeriCorps, has submitted a public information collection request (ICR) entitled Application Instructions for AmeriCorps State and National Competitive, New, and Continuation Grants for review and approval in accordance with the Paperwork Reduction Act.

DATES: Written comments must be submitted to the individual and office listed in the ADDRESSES section by August 30, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Arminda Pappas, at (202) 606-6659 or by email to apappas@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 26, 2023 at 88 FR 25384. This comment period ended June 26, 2023. No public comments were received from this Notice.

Title of Collection: Application Instructions for AmeriCorps State and National Competitive New and Continuation Grants.

OMB Control Number: 3045-0047. Type of Review: Renewal.

Respondents/Affected Public: Businesses and Organizations.

Total Estimated Number of Annual Responses: 450.

Total Estimated Number of Annual Burden Hours: 18,000.

Abstract: The application instructions conform to AmeriCorps' online grant application system, eGrants, which applicants must use to respond to AmeriCorps Notices of Funding Opportunities. AmeriCorps seeks to renew the current information collection with revisions. The revisions are intended to update sections of the Application Instructions that have been amended. The information collection will otherwise be used in the same manner as the existing application. AmeriCorps also seeks to continue using the current application until the revised application is approved by OMB. The current application is due to expire on September 30, 2023.

Sonali Nijhawan,
Director, AmeriCorps State and National.

[FR Doc. 2023-16168 Filed 7-28-23; 8:45 am]

BILLING CODE 6050-28-P